DEPARTMENT OF DEFENSE

Office of the Secretary

[Docket ID: DOD-2025-OS-0805]

Proposed Collection; Comment Request

AGENCY: Office of the Under Secretary of Defense for Acquisition and Sustainment (USD(A&S)), Department of Defense (DoD).

ACTION: 60-Day information collection notice.

SUMMARY: In compliance with the Paperwork Reduction Act of 1995, the Defense Logistics Agency (DLA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 17, 2026.

ADDRESSES: You may submit comments, identified by docket number and title, by any of the following methods:

Federal eRulemaking Portal: http://www.regulations.gov. Follow the instructions for submitting comments.

Mail: Department of Defense, Department of Defense, Privacy, Civil Liberties, and Transparency Directorate, Office of the Director of Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Logistics Agency, 74 Washington Ave., Battle Creek, MI, 49037, Charles West, 385-591-7788.

SUPPLEMENTARY INFORMATION:

Title; Associated Form; and OMB Number: Qualified Facility List Application Form; DLA Form 2507; OMB Control Number 0704-0650.

Needs and Uses: The information collected via the DLA Form 2507, “Application for Qualified Facility List (QFL),” is used to validate hazardous waste disposal facilities around the world. Prior to the United States (U.S.) Government sending hazardous waste to a disposal facility, the facility must undergo a vetting process to ensure they are properly permitted, insured, and operating within local, state, and/or national regulations. Respondents are companies that have entered into a contract with the U.S. Government to dispose of hazardous waste and hazardous material on behalf of the U.S. Government. The result of the review process is the disposal facility's addition to the QFL and authorized use by the disposal contractor. If the facility fails to meet the minimum standards established by DLA Disposition Services, the facility is rejected/disapproved and will not be added to the QFL.

Affected Public: Business or other for-profit.

Annual Burden Hours: 250.

Number of Respondents: 250.

Responses per Respondent: 1.

Annual Responses: 250.

Average Burden per Response: 60 minutes.

Frequency: As required.

Dated: December 12, 2025.
Stephanie J. Bost,
Alternate OSD Federal Register Liaison Officer, Department of Defense.

[FR Doc. 2025-22979 Filed 12-15-25; 8:45 am]

BILLING CODE 6001-FR-P